NUCLEAR REGULATORY COMMISSION

10 CFR Part 72

[NRC-2009-0349]

RIN 3150-AI71

List of Approved Spent Fuel Storage Casks: HI-STORM 100 Revision 7, Confirmation of Effective Date

AGENCY: Nuclear Regulatory Commission.

ACTION: Direct final rule; confirmation of effective date.

SUMMARY: The Nuclear Regulatory Commission (NRC) is confirming the effective date of December 28, 2009, for the direct final rule that was published in the Federal Register on October 13, 2009. The direct final rule amended the NRC's spent fuel storage regulations in 10 CFR 72.214 to revise the HI-STORM 100 dry cask storage system listing to include Amendment No. 7 to Certificate of Compliance (CoC) Number 1014.

DATES: Effective Date: The effective date of December 28, 2009, is confirmed for the direct final rule published October 13, 2009 (74 FR 52387).

ADDRESSES: Documents related to this rulemaking, including any comments received, may be examined at the NRC Public Document Room, Room O-1F23, 11555 Rockville Pike, Rockville, MD 20852.

FOR FURTHER INFORMATION CONTACT: Neelam Bhalla, Office of Federal and State Materials and Environmental Management Programs, U.S. Nuclear Regulatory Commission, Washington, DC 20555-0001, telephone (301) 415-6843, e-mail Neelam.Bhalla@nrc.gov.

SUPPLEMENTARY INFORMATION: On October 13, 2009 (74 FR 52387), the NRC published a direct final rule amending its regulations at 10 CFR 72.214 to include Amendment No. 7 to CoC Number 1014. Amendment No. 7 modifies the CoC to add the HI-STORM 100U system to the HI-STORM 100 cask systems. The HI-STORM 100U system allows for the underground storage of dry spent nuclear fuel (SNF) by utilizing an underground vertical ventilated module (VVM) that can accept certain Holtec multipurpose canisters previously certified for storage of SNF in the aboveground HI-STORM system. The amendment also incorporates a mandatory radiation protection perimeter around the loaded VVMs. In addition, the amendment will reinstate the decay heat limits for damaged fuel and fuel debris in Appendix B, Technical Specification (TS) 2.4, for the aboveground system that had been inadvertently deleted from Amendment Nos. 5 and 6; incorporate separate TS Appendices A and B for the HI-STORM aboveground system, and TS Appendices A-100U and B-100U, for the HI-STORM 100U underground system; revise Appendix B, TS 3.4.5, to be consistent with the required system thermal boundary conditions, as submitted in the applicant's safety analysis report for a fire accident condition, and with Holtec's original (i.e., initial certificate application or Amendment 0) submittal and the NRC's original safety evaluation report; revise and add certain definitions in Appendix A, TS 1.1, to include the VVM; and incorporate minor editorial corrections in the TS for the aboveground system. In the direct final rule, NRC stated that if no significant adverse comments were received, the direct final rule would become final on December 28, 2009. The NRC did not receive any comments on the direct final rule. Therefore, this rule will become effective as scheduled.

Dated at Rockville, Maryland, this 7th day of December 2009.
For the Nuclear Regulatory Commission.
Cindy Bladey,
Acting Branch Chief, Rulemaking and Directives Branch, Division of Administrative Services, Office of Administration.

[FR Doc. E9-29554 Filed 12-10-09; 8:45 am]

BILLING CODE 7590-01-P